DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Boundary and Annexation Survey (BAS).

Form Number(s): BAS-1, BAS-2, BAS-3, BAS-4, BAS-5.

Agency Approval Number: 0607-0151.

Type of Request: Extension of a currently approved collection.

Burden: 36,000 hours.

Number of Respondents: 12,000.

Avg Hours Per Response: 3 hours.

Needs and Uses: This request is for the clearance of forms to continue the annual Boundary and Annexation Survey (BAS). The results of the BAS are needed to provide information documenting the creation of newly incorporated municipalities, minor civil divisions (MCDs), counties, federally recognized American Indian areas (AIAs, which include reservations and/or off-reservation trust lands), and Alaska Native Regional Corporations (ANRCs), the dissolution of incorporated municipalities and MCDs, and changes in the boundaries of municipalities, MCDs, counties, AIAs, and ANRCs. The BAS information is used to provide an appropriate record for reporting the results of the decennial and economic censuses; annual surveys to support the annual population estimates program, and the American Community Survey, to update the municipal, MCD, county, AIA, and ANRC inventory for compliance with responsibilities specified in the OMB Circular A-16 that supports the spatial data steward responsibilities of the OMB E-Gov Geospatial Onestop, the FGDC Subcommittee on Cultural and Demographic Data, The National Map, the Federal Information Processing Standards (FIPS) program, and to update the Geographic Names Information Systems (GNIS) all of which are managed or maintained by the U.S. Geological Survey (USGS).

The BAS universe and mailing materials vary depending on the needs of the Census Bureau in fulfilling the requirements of its censuses and household surveys and our partnerships. In the years ending in 8, 9, and 0, the survey includes all governmental counties and equivalent areas, all incorporated municipalities, all governmental MCDs, and all federally recognized American Indian and Alaska Native areas. Each governmental entity surveyed receives all maps covering its jurisdiction and one or more forms. These 3 years coincide with the Census Bureau's preparations for the decennial census.

In the years ending with 2, and 7, the BAS generally includes all governmental counties and their statistical equivalents, all MCDs in the six New England states and those MCDs with a population of 10,000 or greater in the states of Michigan, Minnesota, New Jersey, New York, Pennsylvania and Wisconsin, those incorporated places with a population of 2,500 or greater, and all federally recognized American Indian and Alaska Native areas.

In the remaining years of the decade, years ending in 1, 3, 4, 5, and 6, the BAS generally includes all governmental counties and their statistical equivalents, all MCDs in the six New England states, and those incorporated places with a population of 5,000 or greater.

As part of our partnerships developed with state and county governments, the universe is modified with local knowledge to target those governments known to have changes and delete governments with no changes to minimize unnecessary burden.

Affected Public: State, local, or tribal government.

Frequency: Annually.

Respondent's Obligation: Voluntary.

Legal Authority: Title 13 U.S.C., Section 6.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: May 27, 2004.
Madeleine Clayton,
Management Analyst, Office of the Chief Information Officer.

[FR Doc. 04-12509 Filed 6-2-04; 8:45 am]

BILLING CODE 3510-07-P